NUCLEAR REGULATORY COMMISSION

Sunshine Act Meeting

AGENCY HOLDING THE MEETING: Nuclear Regulatory Commission.

DATE: Weeks of August 13, 20, 27; September 3, 10, 17, 2001.

PLACE: Commissioners' Conference Room, 11555 Rockville Pike, Rockville, Maryland.

STATUS: Public and Closed.

MATTERS TO BE CONSIDERED:

Week of August 13, 2001

Tuesday, August 14, 2001

9:30 a.m.—Briefing on NRC International Activities (Public Meeting) (Contact: Elizabeth Doroshuk, 301-415-2775)

Wednesday, August 1, 2001

9:30 a.m.—Briefing on EEO Program (Public Meeting) (Contact: Irene Little, 301-415-7380)

1:25 p.m.—Affirmation Session (Public Meeting) (Tentative) a. Final Rule: Interim Storage for Greater than Class C. Waste, 10 CFR Parts 30, 70, 72, and 150

1:30 p.m.—Meeting with Organization of Agreement States (OAS) and Conference of Radiation Control Program Directors (CRCPD) (Public Meeting) (Contact: John Zabko, 301-415-1277)

Week of August 20, 2001—Tentative

There are no meetings scheduled for the Week of August 20, 2001.

Week of August 27, 2001—Tentative

There are no meetings scheduled for the Week of August 27, 2001.

Week of September 3, 2001—Tentative

There are no meetings scheduled for the Week of September 3, 2001.

Week of September 10, 2001—Tentative

There are no meetings scheduled for the Week of September 10, 2001.

Week of September 17, 2001—tentative

There are no meetings scheduled for the Week of September 17, 2001.

The schedule for Commission meetings is subject to change on short notice. To verify the status of meetings call (recording)—(301) 415-1292. Contact person for more information: David Louis Gamberoni (301) 415-1651.

The NRC Commission Meeting Schedule can be found on the Internet at: http://www.nrc.gov/SECY/smj/schedule.htm

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: August 9, 2001.
Sandra M. Joosten,
Executive Assistant, Office of the Secretary.

[FR Doc. 01-20509 Filed 8-10-01; 12:51 pm]

BILLING CODE 7590-01-M